DEPARTMENT OF THE INTERIOR

National Park Service

Notice of Inventory Completion for Native American Human Remains and Associated Funerary Objects from Lyon County, IA in the Possession of the Office of the State Archaeologist, University of Iowa, Iowa City, IA

AGENCY: National Park Service, Interior.

ACTION: Notice.

Notice is hereby given in accordance with provisions of the Native American Graves Protection and Repatriation Act (NAGPRA), 43 CFR 10.9, of the completion of an inventory of human remains and associated funerary objects in the possession of the Office of State Archaeologist, University of Iowa, Iowa City, IA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the Office of the State Archaeologist, University of Iowa, professional staff in consultation with representatives of the Iowa Tribe of Kansas and Nebraska; the Iowa Tribe of Oklahoma; the Otoe-Missouria Tribe of Indians, Oklahoma; the Omaha Tribe of Nebraska; the Ponca Tribe of Nebraska; and the Ponca Tribe of Indians of Oklahoma.

In 1989, human remains representing eight individuals were collected from the surface of site 13LO2, Blood Run National Historic Landmark, Lyon County, IA, by Bear Creek Archaeology, Inc., during an archeological survey. Also in 1989, human remains representing four individuals were collected from the site by unknown local residents. The remains subsequently were transferred to the Office of State Archaeologist, University of Iowa. No known individuals were identified. There are no associated funerary objects.

Blood Run National Historic Landmark site is a large Oneota village site located in Iowa and South Dakota, straddling the Big Sioux River southeast of Sioux Falls, SD. Archeological evidence, including radiocarbon dates and trade artifacts, suggests that the site was most intensively occupied from A.D. 1500-1700. Tribal histories, supported by French historical maps and documents, strongly suggest that the Omaha (possibly including the Ponca at this time), Iowa, and Oto tribes were present in this area at that time and were the probable residents of the site.

Based on the above-mentioned information, officials of the Office of State Archaeologist, University of Iowa, have determined that, pursuant to 43 CFR 10.2 (d)(1), the human remains listed above represent the physical remains of 12 individuals of Native American ancestry. Also, officials of the Office of State Archaeologist, University of Iowa, have determined that, pursuant to 43 CFR 10.2 (e), there is a relationship of shared group identity that can be reasonably traced between these Native American human remains and the Iowa Tribe of Kansas and Nebraska; the Iowa Tribe of Oklahoma; the Otoe-Missouria Tribe of Indians, Oklahoma; the Omaha Tribe of Nebraska; the Ponca Tribe of Nebraska; and the Ponca Tribe of Indians of Oklahoma.

This notice has been sent to officials of the Iowa Tribe of Kansas and Nebraska; the Iowa Tribe of Oklahoma; the Otoe-Missouria Tribe of Indians, Oklahoma; the Omaha Tribe of Nebraska; the Ponca Tribe of Nebraska; and the Ponca Tribe of Indians of Oklahoma. Representatives of any other Indian tribe that believes itself to be culturally affiliated with these human remains should contact Shirley Schermer, Burials Program Director, Office of the State Archaeologist, 700 Clinton Street Building, University of Iowa, Iowa City, IA 52242, telephone (319) 384-0740, before October 18, 2000. Repatriation of the human remains to the Iowa Tribe of Kansas and Nebraska; the Iowa Tribe of Oklahoma; the Otoe-Missouria Tribe of Indians, Oklahoma; the Omaha Tribe of Nebraska; the Ponca Tribe of Nebraska; and the Ponca Tribe of Indians of Oklahoma may begin after that date if no additional claimants come forward.

Dated: September 5, 2000.
John Robbins,
Assistant Director, Cultural Resources Stewardship and Partnerships.

[FR Doc. 00-23871 Filed 9-15-00; 8:45 am]

BILLING CODE 4310-70-F